DEPARTMENT OF THE INTERIOR

National Park Service

National Register of Historic Places; Notification of Pending Nominations

Nominations for the following properties being considered for listing in the National Register were received by the National Park Service before December 21, 2002. Pursuant to section 60.13 of 36 CFR part 60 written comments concerning the significance of these properties under the National Register criteria for evaluation may be forwarded by United States Postal Service, to the National Register Historic Places, National Park Service, 1849 C St. NW., 2280, Washington, DC 20240; by all other carriers, National Register of Historic Places, National Park Service,1201 Eye St. NW., 8th floor, Washington DC 20005; or by fax, (202) 343-1836. Written or faxed comments should be submitted by January 31, 2003.

Beth Savage,
Acting Keeper of the National Register of Historic Places.

CONNECTICUT

Fairfield County

Downtown Stamford Historic District (Boundary Increase 2), Roughly along Bedford St., Stamford, 02001744.

GEORGIA

Appling County

Bank Surrency, 80 Hart St., Surrency, 02001742.

NORTH CAROLINA

Halifax County

Scotland Neck Historic District, Roughly bounded by Church, Bryan, Cherry, Roanoke, and Fifth and Eighteenth Sts., Scotland Neck, 02001743.

PENNSYLVANIA

Montgomery County

Globe Knitting Mills, 660 and 694 E. Main St., Norristown, 02001745.

Milmoral

1150 Church Rd., Wyncote, Cheltenham, 02001746.

A request for Removal has been made for the following resources:

ARKANSAS

Ashley County

Wiggins Cabin, City Park, Crossett, 82002093.

Jefferson County

Austin House, (Thompson, Charles L., Design Collection TR), 704 W. 5th Ave., Pine Bluff, 82000842.

Phillips County

Short-Deisch House, 409 Biscoe St., Helena, 74000490.

Pulaski County

Bechle House, 1004 E. 9th St., Little Rock, 79000449.

IOWA

Webster County

Illinois Central Passenger Depot-Fort Dodge, (Advent and Development of Railroads in Iowa MPS), Jct. Of Fourth St., and Fourth Ave., S., Fort Dodge, 90001307.

[FR Doc. 03-989 Filed 1-15-03; 8:45 am]

BILLING CODE 4310-70-P